DEPARTMENT OF HOUSING AND URBAN DEVELOPMENT

[Docket No. FR-4655-N-11]

Notice of Proposed Information Collection: Comment Request; Owner's Certification of Compliance With HUD's Tenant Eligibility and Rent Procedures

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 12, 2001.

ADDRESSES: Interested persons are invited to submit comments regarding this proposal. Comments should refer to the proposal by name and/or OMB Control Number and should be sent to: Wayne Eddins, Reports Management Officer, Department of Housing and Urban Development, 451 7th Street, SW., L'Enfant Building, Room 8202, Washington, D.C. 20410.

FOR FURTHER INFORMATION CONTACT: Willie Speramon, Director, Office of Housing Assistance and Grants Administration, U.S. Department of Housing and Urban Development, 451 7th Street, SW, Washington, DC 20410, telephone number (202) 708-3000, (this is not a toll-free number) for copies of the proposed forms and other available information.

SUPPLEMENTARY INFORMATION: The Department is submitting the proposed information collection to OMB for review, as required by the Paperwork Reduction Act of 1955 (4 U.S.C. Chapter 35, as amended).

This notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, permitting electronic submission of responses.

This Notice also lists the following information:

Title of Proposal: Owner's Certification with HUD's Tenant Eligibility and Rent Procedures.

OMB Control Number, if applicable: 2502-0204.

Description of the need for the information and proposed use: The collection of the data elements are needed to comply with Federal statutes and regulations that (1) establish policies as to who may be admitted to subsidized and/or assisted housing; (2) specify which eligible applicants may be given priority over others; (3) prohibit racial discrimination in conjunction with tenant selection and unit assignment; (4) specify how tenants' incomes and rents must be compiled; and (5) require annual reports to Congress and to the public on the race/ethnicity and gender composition of HUD program beneficiaries.

Agency form numbers, if applicable: HUD-50059.

Estimation of the total numbers of hours needed to prepare the information collection including number of respondents, frequency of response, and hours of response: The estimated number of respondents is 2,207,339, the frequency of responses is at least annually after admission, estimated time to prepare collection is 55 minutes per response (45 minutes for 221(d)(3) BMIR); and the total annual burden hours requested are 2,008,457.

Status of the proposed information collection: Revision of a currently approved collection.

Authority: The Paperwork Reduction Act of 1995, 44 U.S.C., Chapter 35, as amended.

Dated: April 6, 2001.
Sean G. Cassidy,
General Deputy, Assistant Secretary for Housing-Deputy Federal Housing Commissioner.

[FR Doc. 01-9129 Filed 4-12-01; 8:45 am]

BILLING CODE 4210-27-M